DEPARTMENT OF THE INTERIOR

National Park Service

[N6792; NPS-WASO-NAGPRA-NPS0041561; PPWOCRADN0-PCU00RP14.R50000]

Notice of Inventory Completion: Missouri Historical Society, St. Louis, MO

AGENCY: National Park Service, Interior.

ACTION: Notice.

SUMMARY: In accordance with the Native American Graves Protection and Repatriation Act (NAGPRA), the Missouri Historical Society (MHS) located in St. Louis, MO has completed an inventory of associated funerary objects and has determined that there is a cultural affiliation between the associated funerary objects and Indian Tribes or Native Hawaiian organizations in this notice.

DATES: Repatriation of the associated funerary objects in this notice may occur on or after January 20, 2026.

ADDRESSES: Send written requests for repatriation of the associated funerary objects in this notice to Brady Wolf, Missouri Historical Society, 225 S Skinker Blvd., St. Louis, MO 63105, email bwolf@mohistory.org.

SUPPLEMENTARY INFORMATION: This notice is published as part of the National Park Service's administrative responsibilities under NAGPRA. The determinations in this notice are the sole responsibility of the MHS, and additional information on the determinations in this notice, including the results of consultation, can be found in its inventory or related records. The National Park Service is not responsible for the determinations in this notice.

Abstract of Information Available

The three associated funerary objects are three lots of glass trade beads taken from a burial mound.

At an unknown time prior to 1958 an unknown person or persons disinterred three associated funerary objects from Mustang Mound (CA-YOL-13) in Yolo County, California. At an unknown time, these associated funerary objects were transferred to Dr. Max Goldstein of St. Louis, MO where they were stored and possibly displayed at his private museum within the Central Institute for the Deaf. Following the death of Dr. Goldstein, his estate transferred control of the associated funerary objects to the Missouri Historical Society in 1958.

Cultural Affiliation

Based on the information available and the results of consultation, cultural affiliation is reasonably identified by the geographical location or acquisition history of the associated funerary objects described in this notice.

Determinations

The MHS has determined that:

• The three objects described in this notice are reasonably believed to have been placed intentionally with or near individual human remains at the time of death or later as part of the death rite or ceremony.

• There is a connection between the associated funerary objects described in this notice and the United Auburn Indian Community of the Auburn Rancheria of California; Wilton Rancheria, California; and the Yoche Dehe Wintun Nation, California.

Requests for Repatriation

Written requests for repatriation of the associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the associated funerary objects described in this notice to a requestor may occur on or after January 20, 2026. If competing requests for repatriation are received, the MHS must determine the most appropriate requestor prior to repatriation. Requests for joint repatriation of the associated funerary objects are considered a single request and not competing requests. The MHS is responsible for sending a copy of this notice to the Indian Tribes and Native Hawaiian organizations identified in this notice and any other consulting parties.

Authority: Native American Graves Protection and Repatriation Act, 25 U.S.C. 3003, and the implementing regulations, 43 CFR 10.10.

Dated: December 8, 2025.
Melanie O'Brien,
Manager, National NAGPRA Program.

[FR Doc. 2025-23370 Filed 12-18-25; 8:45 am]

BILLING CODE 4312-52-P